FEDERAL EMERGENCY MANAGEMENT AGENCY

Partially Open Meeting, Board of Visitors for the National Fire Academy

AGENCY: Federal Emergency Management Agency (FEMA).

ACTION: Notice of partially open meeting.

SUMMARY: In accordance with section 10 (a) (2) of the Federal Advisory Committee Act, 5 U.S.C. App. 2, FEMA announces the following committee meeting:

Name: Board of Visitors for the National Fire Academy.

Dates of Meeting: January 25-27, 2001.

Place: Building J, Room 236, National Emergency Training Center, Emmitsburg, Maryland.

TIME: January 25, 2001, 8:30 a.m.-10:30 a.m. (Closed Meeting), January 25, 2001, 10:30 a.m.-5 p.m. (Open Meeting), January 26, 2001, 8:30 a.m.-9 p.m. (Open Meeting), January 27, 2001, 8:30 a.m.-12 noon (Open Meeting).

Proposed Agenda: January 25, (Closed Meeting from 8:30 a.m.-10:30 a.m., to review Fiscal Year 2001 budgetary and procurement information.) January 25-27, Review U.S. Fire Administration Program Activities.

SUPPLEMENTARY INFORMATION: The meeting will be open to the public (except as noted above) with seating available on a first-come, first-served basis. Members of the general public who plan to attend the meeting should contact the Office of the Superintendent, National Fire Academy, U.S. Fire Administration, 16825 South Seton Avenue, Emmitsburg, MD 21727, (301) 447-1117, on or before January 19, 2001.

Minutes of the meeting will be prepared and will be available for public viewing in the Office of the Chief Operating Officer, U.S. Fire Administration, Federal Emergency Management Agency, Emmitsburg, Maryland 21727. Copies of the minutes will be available upon request within 60 days after the meeting.

Dated: November 29, 2000.
Kenneth O. Burris, Jr.,
Chief Operating Officer.

[FR Doc. 00-31514 Filed 12-11-00; 8:45 am]

BILLING CODE 6718-08-P